DEPARTMENT OF HEALTH AND HUMAN SERVICES

National Institutes of Health

Notice of Meeting: Secretary's Advisory Committee on Genetics, Health, and Society

Pursuant to Public Law 92-463, notice is hereby given of the 17th meeting of the Secretary's Advisory Committee on Genetics, Health, and Society (SACGHS), U.S. Public Health Service. The meeting will be held from 8 a.m. to approximately 5:30 p.m. on Monday, December 1, 2008, and 8 a.m. to approximately 3 p.m. on Tuesday, December 2, 2008, at the Hubert H. Humphrey Building, 200 Independence Avenue, SW., Washington, DC 20201. The meeting will be open to the public with attendance limited to space available. The meeting also will be Web cast.

For most of the first day of the meeting, SACGHS will review a preliminary draft report that addresses questions about whether gene patents and certain licensing practices are affecting patient access to genetic tests. SACGHS will discuss the draft report and determine whether it is ready to be released for public comment. Later in the day, the Committee will hear presentations about diagnostic laboratory standards and technology platforms and the role they are playing in innovation of genetic technologies. On day two, the Committee will continue to discuss priority issues and future study topics and come to a final decision about its strategic study plan.

As always, the Committee welcomes hearing from anyone wishing to provide public comment on any issue related to genetics, health and society. Individuals who would like to provide public comment should notify the SACGHS Executive Secretary, Ms. Sarah Carr, by telephone at 301-496-9838 or e-mail at carrs@od.nih.gov. The SACGHS office is located at 6705 Rockledge Drive, Suite 750, Bethesda, MD 20892. Anyone planning to attend the meeting who is in need of special assistance, such as sign language interpretation or other reasonable accommodations, is also asked to contact the Executive Secretary.

Under authority of 42 U.S.C. 217a, Section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://www4.od.nih.gov/oba/sacghs.htm.

Dated: October 20, 2008.
Jennifer Spaeth,
Director, NIH Office of Federal Advisory Committee Policy.

[FR Doc. E8-25485 Filed 10-24-08; 8:45 am]

BILLING CODE 4140-01-P